DEPARTMENT OF ENERGY

Federal Energy Regulatory Commission

[Project No. 2232-522]

Duke Energy Carolinas, LLC; Notice of Application Accepted for Filing, Soliciting Comments, Motions To Intervene, and Protests

Take notice that the following hydroelectric application has been filed with the Federal Energy Regulatory Commission and is available for public inspection:

a. Type of Application: Amendment of Project License.

b. Project No: 2232-522.

c. Date Filed: May 5, 2017.

d. Applicant: Duke Energy Carolinas, LLC (licensee).

e. Name of Project: Catawba-Wateree Hydroelectric Project.

f. Location: The project includes 11 developments and is located on the Catawba and Wateree Rivers in Burke, McDowell, Caldwell, Catawba, Alexander, Iredell, Mecklenburg, Lincoln, and Gaston Counties, North Carolina, and York, Lancaster, Chester, Fairfield, and Kershaw Counties in South Carolina. The project does not occupy federal land.

g. Filed Pursuant to: Federal Power Act, 16 U.S.C. 791a-825r.

h. Applicant Contact: Jeff Lineberger, Director, Water Strategy and Hydro Licensing, Duke Energy Carolinas, LLC, 526 S. Church St., P.O. Box 1006/EC12Y, Charlotte, NC 28202, Jeff.Lineberger@duke-energy.com.

i. FERC Contact: Michael Calloway at 202-502-8041, or michael.calloway@ferc.gov.

j. Deadline for filing comments, motions to intervene, and protests is 30 days from the issuance of this notice by the Commission. The Commission strongly encourages electronic filing. Please file motions to intervene, protests, and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2232-522.

k. Description of Request: The licensee requests that the Commission amend the project license to include new Water Quality Certificates issued by North Carolina Department of Environmental Quality on February 27, 2017, and South Carolina Department of Health and Environmental Control on April 5, 2017. The new certificates were included in the May 5, 2017, filing. Additionally, the licensee requests that the Commission amend the Flow and Water Quality Implementation Plan and the Water Quality Monitoring Plan in order to: (1) Raise reservoir target elevation by 6 inches at James, Norman, and Wylie developments from May 1 to October 1; (2) change Wylie Hydro Station recreation release from 6,000 cubic feet per second (cfs) to 3,000 cfs; (3) update the Low Inflow Protocol and Emergency Protocol; (4) update status and implementation schedules contained in the Water Quality Monitoring Plan and Flow and Water Quality Improvement Plan; and (5) evaluate other technologies in addition to a bladder dam to provide the additional flow releases at Wateree Spillway.

l. Locations of the Application: A copy of the application is available for inspection and reproduction at the Commission's Public Reference Room, located at 888 First Street NE., Room 2A, Washington, DC 20426, or by calling 202-502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title COMMENTS; PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the amendment application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: July 13, 2017.
Kimberly D. Bose,
Secretary.

[FR Doc. 2017-15247 Filed 7-19-17; 8:45 am]

BILLING CODE 6717-01-P